DEPARTMENT OF TRANSPORTATION

Federal Aviation Administration

RTCA, Inc.; Government/Industry Certification Steering Committee

Pursuant to section 10(a)(2) of the Federal Advisory Committee Act (P.L. 92-463, 5 U.S.C., Appendix 2), notice is hereby given for RTCA Government/Industry Certification Steering Committee meeting to be held November 14, 2000, from 10:00 a.m. to 2:00 p.m. The meeting will be held at Federal Aviation Administration (FAA), 800 Independence Avenue, SW., Washington, DC 20591, in the Bessie Coleman Conference Center, Room 2AB.

The agenda will include: (1) Welcome and Introductory Remarks; (2) Report from Certification Select Committee: (a) Select Committee Actions from Previous Meeting; (b) Report on Working Group-1/SOIT Interface; (c) Report on FAA Reauthorization ACT vis-à-vis Task Force 4 Recommendations 11 and 14; (3) Review of Select Committee Products; (d) Presentation of Completed Deliverables; (e) Timeline for Remaining Deliverables; (4) Demonstration of Proposed Certification Home Page; (5) Other Business; (6) Date and Location of Next Meeting; (7) Closing.

Attendance is open to the interested public but limited to space availability. With the approval of the co-chairmen, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on October 23, 2000.
Janice L. Peters,
Designated Official.

[FR Doc. 00-27903 Filed 10-30-00; 8:45 am]

BILLING CODE 4910-13-M